DEPARTMENT OF COMMERCE

National Institute of Standards and Technology

National Advanced Spectrum and Communications Test Network: Citizens Broadband Radio Service Sharing Ecosystem Assessment Test Plan Community Outreach

AGENCY: National Institute of Standards and Technology, Department of Commerce.

ACTION: Notice of open meeting.

SUMMARY: The National Advanced Spectrum and Communications Test Network (NASCTN) is hosting a public meeting on NASCTN's test plan for collecting emissions in the Citizen Broadband Radio Service (CBRS) band in `Always On' Dynamic Protection Areas (DPAs), on February 22, 2023, from 10:00 a.m.-12:00 p.m. Mountain Standard Time. The purpose of this meeting is to brief federal, industry, and academic stakeholders and interested parties from the public on the details and approach to collecting emissions in the CBRS band for one of the three main tasks of the NASCTN CBRS Sharing Ecosystem Assessment (SEA) project.

DATES: The NASCTN meeting on the CBRS SEA Project Aggregate Emissions in Always-On DPA test plan will take place February 22, 2023 from 10:00 a.m.-12:00 p.m. Mountain Standard Time.

ADDRESSES: The meeting will be held both in-person at the NIST campus at 325 Broadway Street, Boulder, CO 80305 and via web conference. For instructions on how to participate in the meeting, please see the SUPPLEMENTARY INFORMATION section of this notice.

FOR FURTHER INFORMATION CONTACT: Keith Hartley at keith.hartley@nist.gov or 719.572.8256.

SUPPLEMENTARY INFORMATION: The NASCTN CBRS SEA project seeks to provide data-driven insight into the CBRS sharing ecosystem's effectiveness between CBRS and DoD systems, and to track changes in the spectrum environment over time via three primary tasks: (1) Measure Aggregate Emissions in the CBRS Band in Coastal DPAs, (2) Measure Aggregate Emissions in Always-On DPA, and (3) Evaluate Environmental Sensing Capacity (ESC) performance in the Field.

NASCTN is hosting a public meeting on the CBRS SEA project's Measure Aggregate Emissions in Always-On DPA test plan on February 22, 2023 from 10:00 a.m.-12:00 p.m. Mountain Standard Time. The purpose of this meeting is to brief federal, industry, and academic stakeholders and interested parties from the public on the details and approach to collecting emissions in the CBRS band for task 2 of the three main tasks of the NASCTN CBRS SEA project.

Approximately 30 minutes will be allocated for public comments and questions with speaking times assigned on a first-come, first-served basis. Public comments can be provided via in-person attendance, web conference attendance, or via email. The amount of time per speaker will be determined by the number of requests received. Speakers who wish to expand upon their questions or statements, those who wish to speak but cannot be accommodated during the meeting, and those who are unable to attend are invited to submit written statements by email to keith.hartley@nist.gov. Please note that all submitted comments will be treated as public documents.

Anyone wishing to attend this meeting in-person or via web conference must register by 5:00 p.m. Mountain Standard Time, February 15, 2023. Please submit your full name, email address, and phone number to Keith Hartley at keith.hartley@nist.gov.

Authority: 15 U.S.C. 278t.

Alicia Chambers,
NIST Executive Secretariat.

[FR Doc. 2023-01446 Filed 1-24-23; 8:45 am]

BILLING CODE 3510-13-P